DEPARTMENT OF HOMELAND SECURITY

Federal Emergency Management Agency

[Docket ID: FEMA-2013-0050; OMB No. 1660-0025]

Agency Information Collection Activities: Submission for OMB Review; Comment Request; FEMA Grant Administration Forms/Non-Disaster (ND) Grants

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 16, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: FEMA Grant Administration Forms/Non-Disaster (ND) Grants.

Type of information collection: Reinstatement of a currently approved collection of information.

Form Titles and Numbers: FEMA Form 112-02-1, Financial Status Report, FEMA Form 112-0-2, Budget Information-Construction; FEMA Form 112-0-3,A,B,C, Summary Sheet for Assurances and Certifications; FEMA Form 112-0-4, Outlay Report and Request for Reimbursement for Construction Program; FEMA Form 112-0-5, Report of Government Property; FEMA Form 112-0-6, Reconciliation of Grants and Cooperative Agreements; FEMA Form 112-0-7, Obligating Document for Award/Amendment; FEMA Form 112-0-8, Budget Information-Non-Construction; FEMA Form 112-0-9, Detailed Budget Worksheet; and FEMA Form 112-0-10, FEMA Grants Application Form.

Abstract: The information collection activity is the collection of financial and administrative information from States and local governments, universities, and non-profits pertaining to grant and cooperative agreement awards that include application, program narrative statement, grant award, performance information, outlay report, property management, and closeout information. The information submitted by grant recipients on forms allows FEMA to evaluate applications and make award decisions, monitor ongoing performance and manage the flow of federal funds, and to appropriately close-out grants or cooperative agreements, when all work is completed. On January 8, 2014, FEMA published an initial notice in the Federal Register requesting comments on this information collection. 79 FR 1385, Jan. 8, 2014. One comment was received, however that comment did not address this information collection and was about an unrelated government program. The comment can be viewed online at www.regulations.gov under Docket ID FEMA-2013-0050.

Affected Public: State, Local or Tribal Government; Business or Other for Profit; and Not-for-profit Institutions.

Estimated Number of Respondents: 56.

Estimated Total Annual Burden Hours: 184,682.

Estimated Cost: There is no record keeping, capital, start-up or maintenance cost associated with this information collection.

Dated: April 7, 2014.
Loretta Cassatt,
Branch Chief, Records Management, Mission Support Bureau, Federal Emergency Management Agency, Department of Homeland Security.

[FR Doc. 2014-08663 Filed 4-15-14; 8:45 am]

BILLING CODE 9111-78-P